DEPARTMENT OF DEFENSE

Defense Acquisition Regulations System

48 CFR Parts 227 and 252

[Docket DARS-2019-0048]

RIN 0750-AK71

Defense Federal Acquisition Regulation Supplement: Validation of Proprietary and Technical Data (DFARS Case 2018-D069)

AGENCY: Defense Acquisition Regulations System, Department of Defense (DoD).

ACTION: Announcement of meeting; extension of comment period.

SUMMARY: DoD is hosting a public meeting to obtain views of experts and interested parties in Government and the private sector regarding implementation in the Defense Federal Acquisition Regulation Supplement (DFARS) of the statutory presumption of development exclusively at private expense for commercial items in the procedures governing the validation of asserted restrictions on technical data as required to implement a section of the National Defense Authorization Act for Fiscal Year 2019.

DATES: Submission of Comments: The comment period for the proposed rule published on August 31, 2020 (85 FR 53755), is extended. Comments on the proposed rule should be submitted in writing to the address shown in ADDRESSES on or before November 30, 2020 to be considered in formation of the final rule.

Public Meeting: A virtual public meeting will be held on November 19, 2020, from 10 a.m. to 1 p.m. Eastern time. The public meeting will end at the stated time, or when the discussion ends, whichever comes first.

Registration: Registration to participate in this meeting must be received no later than close of business on November 12, 2020. Information on how to register for the public meeting may be found in the SUPPLEMENTARY INFORMATION section of this notice.

ADDRESSES: Public Meeting: A virtual public meeting will be held using Microsoft video conferencing software.

Submission of Comments: Submit comments identified by DFARS Case 2018-D069, using any of the following methods:

○ Federal eRulemaking Portal: http://www.regulations.gov. Search for “DFARS Case 2018-D069.” Select “Comment Now” and follow the instructions provided to submit a comment. Please include “DFARS Case 2018-D069” on any attached documents.

○ Email: osd.dfars@mail.mil. Include DFARS Case 2018-D069 in the subject line of the message.

○ Mail: Defense Acquisition Regulations System, Attn: Ms. Kimberly Ziegler, OUSD(A&S)DPC/DARS, Room 3B938, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Kimberly Ziegler, telephone 571-372-6095.

SUPPLEMENTARY INFORMATION: DoD is interested in continuing a dialogue with experts and interested parties in Government and the private sector regarding amending the DFARS to implement statutory amendments for the acquisition of technical data and computer software, and associated license rights.

On August 31, 2020, DoD published a proposed rule in the Federal Register at 85 FR 53755 to implement the requirements of section 865 of the National Defense Authorization Act for Fiscal Year 2019 (Pub. L. 115-232), which repeals several years of congressional adjustments to the statutory presumption of development at private expense for commercial items in the validation procedures at paragraph (f) of 10 U.S.C. 2321.

DoD hosted public meetings to obtain the views of interested parties with notice published in the Federal Register on August 16, 2019, at 84 FR 41953. In addition, DoD published an advance notice of proposed rulemaking (ANPR) on September 13, 2019, at 84 FR 48513, providing draft DFARS revisions and requesting any written public comments by November 12, 2019.

Registration: Individuals wishing to participate in the virtual meeting must register by November 12, 2020, to facilitate entry to the meeting. Interested parties may register for the meeting by sending the following information via email to osd.dfars@mail.mil and include “Public Meeting, DFARS Case 2018-D069” in the subject line of the message:

• Full name.

• Valid email address, which will be used for admittance to the meeting.

• Valid telephone number, which will serve as a secondary connection method.

• Company or organization name.

• Whether the individual desires to make a presentation.

Pre-registered individuals will receive instructions for connecting using the Microsoft video conferencing software not more than one week before the meeting is scheduled to commence.

Presentations: Presentations will be limited to 5 minutes per company or organization. This limit may be subject to adjustment, depending on the number of entities requesting to present, in order to ensure adequate time for discussion. If you wish to make a presentation, please submit an electronic copy of your presentation via email to osd.dfars@mail.mil no later than November 12, 2020. Each presentation should be in PowerPoint to facilitate projection during the public meeting and should include the presenter's name, title, organization affiliation, telephone number, and email address on the cover page.

Correspondence, Comments, and Presentations: Please cite “Public Meeting, DFARS Case 2018-D069” in all correspondence related to the public meeting. There will be no transcription at the meeting. The submitted presentations will be the only record of the public meeting and will be posted to the following website at the conclusion of the public meeting: https://www.acq.osd.mil/dpap/dars/technical_data_rights.html.

The comment period for the proposed rule is extended to November 30, 2020, to provide additional time for interested parties to comment on the proposed DFARS changes.

List of Subjects in 48 CFR Parts 227 and 252

Government procurement.

Jennifer D. Johnson,
Regulatory Control Officer, Defense Acquisition Regulations System.

[FR Doc. 2020-23885 Filed 10-27-20; 8:45 am]

BILLING CODE 5001-06-P